DEPARTMENT OF COMMERCE

Foreign-Trade Zones Board

[B-15-2025]

Foreign-Trade Zone (FTZ) 43; Authorization of Limited Production Activity; Pfizer, Inc.; (Pharmaceutical Intermediate Product); Kalamazoo, Michigan

On March 10, 2025, Pfizer, Inc. submitted a notification of proposed production activity to the FTZ Board for its facility within Subzone 43E, in Kalamazoo, Michigan.

The notification was processed in accordance with the regulations of the FTZ Board (15 CFR part 400), including notice in the Federal Register inviting public comment (90 FR 12294-12295, Match 17, 2025). On November 24, 2025, the applicant was notified of the FTZ Board's decision that further review of part of the proposed activity is warranted. The FTZ Board authorized the production activity described in the notification on a limited basis, subject to the FTZ Act and the Board's regulations, including section 400.14, and subject to a one-year limited authorization period.

Dated: November 24, 2025.
Elizabeth Whiteman,
Executive Secretary.

[FR Doc. 2025-21263 Filed 11-25-25; 8:45 am]

BILLING CODE 3510-DS-P